DEPARTMENT OF COMMERCE

National Oceanic and Atmospheric Administration

Agency Information Collection Activities; Submission to the Office of Management and Budget for Review and Approval; Comment Request; Southeast Region Individual Fishing Quota Programs

AGENCY: National Marine Fisheries Service (NMFS), National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received by April 15, 2024.

ADDRESSES: Interested persons are invited to submit written comments to Adrienne Thomas, NOAA PRA Officer, at noaa.pra@noaa.gov. Please reference OMB Control Number 0648-0551 in the subject line of your comments. Do not submit confidential business information or otherwise sensitive or protected information.

FOR FURTHER INFORMATION CONTACT: Requests for additional information or specific questions related to collection activities should be directed to Britni LaVine, NMFS, Southeast Regional Office, Sustainable Fisheries Division, 263 13th Ave. South, St. Petersburg, FL 33701, 727-824-5305, britni.lavine@noaa.gov.

SUPPLEMENTARY INFORMATION:

I. Abstract

This is a request for an extension of an approved information collection. The NMFS Southeast Regional Office manages three commercial individual fishing quota (IFQ) and individual transferable quota (ITQ) programs in the NMFS Southeast Region under the authority of the Magnuson-Stevens Fishery Conservation and Management Act (Magnuson-Stevens Act), 16 U.S.C. 1801 et seq. The IFQ programs for red snapper, and groupers and tilefishes occur in Federal waters of the Gulf of Mexico (Gulf), and the ITQ program for wreckfish occurs in Federal waters of the South Atlantic.

The NMFS Southeast Regional Office proposes to extend the information collection currently approved under OMB Control Number 0648-0551. This collection of information tracks the transfer and use of IFQ and ITQ shares, and IFQ allocation and landings by commercial fishermen necessary for NMFS to operate, administer, and review management of the IFQ and ITQ programs. Regulations for the IFQ and ITQ programs are located at 50 CFR part 622. NMFS proposes no revisions to the existing information collections for the IFQ and ITQ programs approved under OMB Control Number 0648-0551.

II. Method of Collection

Information for the Gulf red snapper, and grouper and tilefish IFQ programs is collected electronically via a web-based system, through satellite-linked vessel monitoring systems, through a 24-hour call line, and with paper form submission for landing corrections, closing an account, and account applications, as well as landing transactions under catastrophic circumstances.

The share transfer process in the wreckfish ITQ program requires the signatures of witnesses on paper forms. The wreckfish ITQ program remains paper-based until the South Atlantic Fishery Management Council and NMFS consider whether to implement an electronic system.

III. Data

OMB Control Number: 0648-0551.

Form Number(s): None.

Type of Review: Regular submission—extension of a current information collection.

Affected Public: Businesses or other for-profit organizations.

Estimated Number of Respondents: 1,064.

Estimated Time per Response:

• Transfer Shares, 3 minutes

• Share Receipt, 2 minutes

• Account Update, 2 minutes

• Trip Ticket Update, 2 minutes

• Transfer Allocation, 3 minutes

• Landing Transaction Correction Request, 5 minutes

• Dealer Cost Recovery Fee Submission through pay.gov, 3 minutes

• Commercial Reef Fish Landing Location Request, 5 minutes

• Dealer Landing Transaction Report, 6 minutes (electronic form)

• Dealer Landing Transaction Report, 5 minutes (paper form used in catastrophic conditions only)

• IFQ Notification of Landing, 5 minutes

• Gulf Reef Fish Notification of Landing, 3 minutes

• IFQ Close Account, 3 minutes

• IFQ Online Account Application, 13 minutes

• Wreckfish Quota Share Transfer, 20 minutes

Estimated Total Annual Burden Hours: 2,397.

Estimated Total Annual Cost to Public: $651 in recordkeeping and reporting costs.

Respondent's Obligation: Mandatory, required to obtain or retain benefits.

Legal Authority: Magnuson-Stevens Act, 16 U.S.C. 1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-02968 Filed 2-12-24; 8:45 am]

BILLING CODE 3510-22-P